FEDERAL ELECTION COMMISSION

Sunshine Act Meeting

AGENCY: Federal Election Commission.

TIME AND DATE: Tuesday, October 27, 2015, at 10:00 a.m. and Thursday, October 29, 2015, at the conclusion of the open meeting.

PLACE: 999 E Street NW., Washington, DC.

STATUS: This meeting will be closed to the public.

MATTERS TO BE DISCUSSED: Compliance matters pursuant to 52 U.S.C. 30109. Matters concerning participation in civil actions or proceeding, or arbitration.

* * * * *

CONTACT PERSON FOR MORE INFORMATION: Judith Ingram, Press Officer, Telephone: (202) 694-1220.

Shelley E. Garr,
Deputy Secretary.

[FR Doc. 2015-27087 Filed 10-20-15; 4:15 pm]

BILLING CODE 6715-01-P